DEPARTMENT OF HEALTH AND HUMAN SERVICES

Request for Information on Promising Practices for Advancing Health Equity for Intersex Individuals

AGENCY: Office of the Assistant Secretary for Health, Office of the Secretary, Department of Health and Human Services (HHS).

ACTION: Notice of Request for Information.

SUMMARY: Through this Request for Information (RFI), the Office of the Assistant Secretary for Health (OASH), Department of Health & Human Services, invites feedback from stakeholders throughout the scientific research community, clinical practice communities, patient and family advocates, scientific or professional organizations, federal partners, internal HHS stakeholders, and other interested constituents on the development of a report on promising practices for advancing health equity for intersex individuals. The overarching purpose of the report on the promising practices for advancing health equity for intersex individuals is to ensure access to affirming, high-quality care for intersex people who live in America.

DATES: The Office of the Assistant Secretary for Health's Request for Information is open for public comment for a period of 4 weeks. Comments must be received on or before COB (5 p.m. ET) March 13, 2023, to ensure consideration. After the public comment period has closed, the comments received by OASH will be considered in a timely manner in the development of the report on the promising practices for advancing health equity for intersex individuals.

ADDRESSES: Please see the supplementary information to view the questions. It is strongly encouraged to submit comments by email to Adrian Shanker, Adrian.shanker@hhs.gov, “notices for advancing health equity for intersex individuals” in the subject line.

FOR FURTHER INFORMATION CONTACT: Adrian Shanker, Adrian.shanker@hhs.gov or by phone at (202) 961-6483.

SUPPLEMENTARY INFORMATION:

Background: The OASH oversees the Department's key public health offices and programs, several Presidential and Secretarial advisory committees, 10 regional health offices across the nation, and the Office of the Surgeon General and the U.S. Public Health Service Commissioned Corps. On June 15, 2022, President Biden signed Executive Order (E.O.) 14075, Advancing Equity for Lesbian, Gay, Bisexual, Transgender, Queer and Intersex Individuals. E.O. 14075 built upon the historic progress the Biden-Harris Administration has made in advancing LGBTQI+ Equity and outlined policy actions to safeguard health care for transgender people, support programs designed to prevent youth suicide and preventing `so called' conversion therapy. The Executive Order also directed HHS to issue a report on promising practices for advancing health equity for intersex individuals.

Request for Comments on the Report Development on Promising Practices for Advancing Health Equity for Intersex Individuals: The OASH invites input from stakeholders throughout the scientific research community, clinical practice communities, patient and family advocates, scientific or professional organizations, federal partners, internal HHS stakeholders, and other interested members of the public on the two questions highlighted below. This input will serve as a valuable element in the development of the report, and the community's time and consideration are highly appreciated.

• What do you see as the current clinical, research, or policy gaps that you are hoping this report addresses?

• What recent or ongoing research, innovative clinical approaches or policy actions do you think is important for us to know about as we begin this work?

The OASH seeks comments and/or suggestions from all interested parties on promising practices for advancing health equity for intersex individuals.

Responses to this RFI are voluntary. Do not include any proprietary, classified, confidential, trade secret, or sensitive information in your response. The responses will be reviewed by OASH staff, and individual feedback will not be provided to any responder. The Government will use the information submitted in response to this RFI at its discretion. The Government reserves the right to use any submitted information on public HHS websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, the HHS, or individual HHS Agencies and Offices to provide support for any ideas identified in response to it. The Federal Government will not pay for the preparation of any information submitted or for the Government's use of such information.

No basis for claims against the U.S. Government shall arise as a result of a response to this RFI or from the Government's use of such information. Additionally, the Government cannot guarantee the confidentiality of the information provided.

Dated: February 6, 2023.
Rachel L. Levine,
Assistant Secretary for Health.

[FR Doc. 2023-02826 Filed 2-9-23; 8:45 am]

BILLING CODE 4150-28-P